DEPARTMENT OF COMMERCE

International Trade Administration

[A-570-853]

Notice of Postponement of Final Antidumping Determination and Extension of Provisional Measures: Bulk Aspirin From the People's Republic of China

AGENCY: Import Administration, International Trade Administration, Department of Commerce.

EFFECTIVE DATE: January 20, 2000.

FOR FURTHER INFORMATION CONTACT: Blanche Ziv, Rosa Jeong or Ryan Langan, Import Administration, International Trade Administration, U.S. Department of Commerce, 14th Street and Constitution Avenue, NW, Washington, DC 20230; telephone: (202) 482-4207, (202) 482-3853, and (202) 482-1279, respectively.

The Applicable Statute

Unless otherwise indicated, all citations to the Tariff Act of 1930 (“the Act”), as amended, are references to the provisions effective January 1, 1995, the effective date of the amendments made to the Act by the Uruguay Round Agreements Act (URAA). In addition, all citations to the Department's regulations are to 19 CFR part 351 (1998).

Postponement of Final Determination and Extenison of Provisional Measures

On December 21, 1999, the Department issued its affirmative preliminary determination in this proceeding. The notice stated we would issue our final determination not later than 75 days after the date of the preliminary determination. See, Notice of Preliminary Determination of Sales at Less Than Fair Value: Bulk Aspirin from the People's Republic of China, 65 FR 116 (January 3, 2000).

On December 28, 1999, pursuant to section 735(a)(2)(A) of the Act, Shandong Xinhua Pharmaceutical Factory (“Shandong”), a named respondent in this investigation, requested the Department to postpone the final determination in this investigation. On January 4, 2000, Shandong also requested an extension of the provisional measures (i.e., suspension of liquidation) to not more than six months, in accordance with the Department's regulations (19 CFR 351.210(e)(2)) and section 735(a)(2) of the Act.

Because our preliminary determination is affirmative, the respondent requesting the postponement represents a significant proportion of exports of the subject merchandise from the People's Republic of China, and no compelling reasons for denial exist, we are extending this final determination to not later than 135 days after the publication of the preliminary determination (i.e., May 17, 2000). Suspension of liquidation will be extended accordingly.

This notice of postponement is published pursuant to section 735(a) of the Act and 19 CFR 351.210(g).

Dated: January 13, 2000.
Robert S. LaRussa,
Assistant Secretary for Import Administration.

[FR Doc. 00-1373 Filed 1-19-00; 8:45 am]

BILLING CODE 3510-DS-P